CONSUMER PRODUCT SAFETY COMMISSION

Sunshine Act Meeting; Notice

AGENCY: U.S. Consumer Product Safety Commission, Washington, DC 20207.

Time and Date: Thursday, October 11, 2001, 10 a.m.

Location: Room 420, East West Towers, 4330 East West Highway, Bethesda, Maryland.

Status: Open to the Public.

MATTER TO BE CONSIDERED:

Hydrocarbons

The staff will brief the Commission on a final rule to require child-resistant packaging for certain household products containing hydrocarbons.

For a recorded message containing the latest agenda information, call (301) 504-0709.

Contact Person for Additional Information: Todd A. Stevenson, Office of the Secretary, 4330 East West Highway, Bethesda, MD 20207, (301) 504-0800.

Dated: October 2, 2001.
Todd A. Stevenson,
Acting Secretary.

[FR Doc. 01-25075 Filed 10-2-01; 3:22 pm]

BILLING CODE 6355-01-M